DEPARTMENT OF TRANSPORTATION

Federal Aviation Administration

14 CFR Part 71

[Docket No. FAA-2021-1031; Airspace Docket No. 21-ASO-14]

RIN 2120-AA66

Proposed Amendment and Removal of VOR Federal Airways V-18, V-115, V-222, V-241, V-245, V-311, V-321, V-325, V-333, V-415, V-417, and V-463 in the Southeastern United States

AGENCY: Federal Aviation Administration (FAA), DOT.

ACTION: Notice of proposed rulemaking (NPRM).

SUMMARY: This action proposes to modify 7 VHF Omnidirectional Range (VOR) Federal Airways, (V-18, V-115, V-222, V-241, V-245, V-321, and V-333) and remove 5 VOR Federal Airways, (V-311, V-325, V-415, V-417, and V-463) in association with the Atlanta VOR Minimum Operation Network (MON) project in the southeastern United States. This action is necessary due to the planned decommissioning of the following five ground-based navigational aids (NAVAIDs): Dyersburg, TN, (DYR) VOR and Tactical Air Navigational System (VORTAC); Crimson, AL, (LDK) VORTAC; Malden, MO, (MAW) VORTAC; Monticello, AR, (MON) VOR/DME; and the Muscle Shoals, AL, (MSL) VOR/Distance Measuring Equipment (DME). This proposal would provide for the safe and efficient use of navigable airspace within the National Airspace System (NAS) while reducing NAVAID dependencies throughout the NAS as part of the FAA VOR MON program.

DATES: Comments must be received on or before January 28, 2022.

ADDRESSES: Send comments on this proposal to the U.S. Department of Transportation, Docket Operations, 1200 New Jersey Avenue SE, West Building Ground Floor, Room W12-140, Washington, DC 20590; telephone: 1 (800) 647-5527 or (202) 366-9826. You must identify FAA Docket No. FAA-2021-1031; Airspace Docket No. 21-ASO-14 at the beginning of your comments. You may also submit comments through the internet at https://www.regulations.gov. FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783. FAA Order JO 7400.11F is also available for inspection at the National Archives and Records Administration (NARA). For information on the availability of FAA Order JO 7400.11F at NARA, email: fr.inspection@nara.gov or go to https://www.archives.gov/federal-register/cfr/ibr-locations.html.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the VOR Federal airway route structure in the eastern United States to maintain the efficient flow of air traffic.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2021-1031; Airspace Docket No. 21-ASO-14) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2021-1031; Airspace Docket No. 20-ASO-14.” The postcard will be date/time stamped and returned to the commenter.

All communications received on or before the specified comment closing date will be considered before taking action on the proposed rule. The proposal contained in this action may be changed in light of comments received. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Eastern Service Center, Federal Aviation Administration, Room 210, 1701 Columbia Ave., College Park, GA 30337.

Availability and Summary of Documents for Incorporation by Reference

This document proposes to amend FAA Order JO 7400.11F, Airspace Designations and Reporting Points, dated August 10, 2021, and effective September 15, 2021. FAA Order JO 7400.11F is publicly available as listed in the ADDRESSES section of this proposed rule. FAA Order JO 7400.11F lists Class A, B, C, D, and E airspace areas, air traffic service routes, and reporting points.

The Proposal

The FAA is proposing an amendment to 14 CFR part 71 to modify 7 VOR Federal airways (V-18, V-115, V-222, V-241, V-245, V-321, V-333) and remove 5 VOR Federal airways (V-311, V-325, V-415, V-417, V-463). This action is necessary due to the planned decommissioning of the five following ground-based NAVAIDs: Dyersburg, TN, (DYR) VORTAC; Crimson, AL, (LDK) VORTAC; Malden, MO, (MAW) VORTAC; Monticello, AR, (MON) VOR/DME; and the Muscle Shoals, AL, (MSL) VORTAC. The proposed changes are described below.

When new navigation aid radials are proposed in an NPRM, both True North (T) and Magnetic North (M) values are stated in route descriptions. Only True North is specified in any subsequent final rules.

V-18: V-18 currently extends, in two parts: From Belcher, LA, (EIC) VORTAC to Vulcan, AL, (VUZ) VORTAC; and, From Colliers, SC, (IRQ) VORTAC to Charleston, SC, (CHS) VORTAC. The FAA proposes to remove the segments from the Crimson, AL, (LDK) VORTAC to Vulcan, AL, and the segment from Colliers, SC, to Charleston, SC. As proposed, V-18 would extend between the Belcher, LA, (EIC) VORTAC and the Meridian, MS, (MEI) VORTAC.

V-115: V-115 currently consists of two parts: From the Crestview, FL, (CEW) VORTAC, to the Volunteer, TN, (VXV) VORTAC; and From the Charleston, WV, (HVQ) VOR/DME to the Parkersburg, WV, (JPU) VOR/DME. The FAA proposes to remove the segments extending from the intersection of the Montgomery, AL, (MGM) VORTAC 323° and the Vulcan, AL, (VUZ) VORTAC 177° radials to the Choo Choo, TN, (GQO) VORTAC. Therefore, the first part of V-115 would extend between the Crestview VORTAC and the Montgomery VORTAC. A new second route segment would be inserted from the intersection of the Hinch Mountain, TN, (HCH) VOR/DME 160°(T/)162°(M) and the Volunteer, TN, 228°(T)/231°(M) radials, to the Volunteer VORTAC. Finally, the existing segment of V-115 from the Charleston VORTAC to the Parkersburg VORTAC would remain unchanged as a third part of the route.

V-222: V-222 currently consists of two parts: From the El Paso, TX, (ELP) VORTAC to the intersection of radials from the Lynchburg, VA, (LYH) VOR/DME and the Columbus, GA, (CSG) VORTAC; and from the intersection of radials from the Foothills, SC, (ODF) VOR/DME, and the Harris, GA, (HRS) VORTAC to Lynchburg, VA. The FAA proposes to remove the airway segments from the LaGrange, GA, (LGC) VORTAC to the Lynchburg VOR/DME. Therefore, the proposed amended route would extend between the El Paso VORTAC and the Montgomery, AL, (MGM) VORTAC.

V-241: V-241 currently extends between the Semmes, AL, (SJI) VORTAC and the intersection of the Columbus, GA, (CSG) VORTAC 010° and the LaGrange, GA, (LGC) VORTAC 048° radials. The FAA proposes to remove the segment that extends from the Columbus VORTAC to the intersection of the Columbus 010° and LaGrange 048° radials. Therefore, the proposed amended route would extend from Semmes VORTAC to the Eufaula, AL, (EUF) VORTAC.

V-245: V-245 currently extends from the Alexandria, LA, (AEX) VORTAC to the Crimson, AL, (LDK) VORTAC. The FAA proposes to remove the segment that extends from the intersection of the Bigbee, MS, (IGB) VORTAC 082° and Crimson 304° radials to the Crimson VORTAC. As proposed, the amended route would extend between the Alexandria VORTAC and the Bigbee VORTAC.

V-311: V-311 currently extends between the Hinch Mountain, TN, (HCH) VOR/DME, and the Charleston, SC, (CHS) VORTAC. The FAA proposes to remove the entire route.

V-321: V-321 currently extends from the Pecan, GA, (PZD) VOR/DME to the Livingston, TN, (LVT) VOR/DME. The FAA proposes to remove the segment that extends from the Pecan VORTAC to the intersection of the LaGrange, GA, (LGC) VORTAC 342° and Gadsden, AL, (GAD) VOR/DME 124°radials. Therefore, the proposed amended route would extend from the Gadsden VOR/DME to the Livingston VOR/DME.

V-325: V-325 currently extends from the Columbia, SC, (CAE) VORTAC, to the intersection of the Foothills, SC, (ODF) VOR/DME 222° and Harris, GA, (HRS) VORTAC 187° radials and then from the intersection of the Rome, GA, (RMG) VORTAC 133° and Gadsden, AL, (GAD) VOR/DME 091° radials to the Muscle Shoals, AL, (MSL) VORTAC. The FAA proposes to remove the entire route.

V-333: V-333 currently extends from the intersection of the Rome, GA, (RMG) VORTAC 133° and Gadsden, AL, (GAD) VOR/DME 091° radials, to the Lexington, KY, (HYK) VOR/DME. The FAA proposes to remove the segments that extend from the intersection of the Rome, and Gadsden radials to the Hinch Mountain, TN, (HCH) VOR/DME. The proposed amended route would extend from the intersection of the Hinch Mountain 010°(T)/012°(M) and the Livingston, TN, 123°(T)/125°(M) radials, to the Lexington VOR/DME.

V-415: V-415 currently extends from the Montgomery, AL, (MGM) VORTAC to the intersection of the Spartanburg, SC, (SPA) VORTAC 101° and Charlotte, NC, (CLT) VOR/DME 229° radials. The FAA proposes to remove the entire route.

V-417: V-417 currently extends from the Meridian, MS, (MEI) VORTAC to the Charleston, SC, (CHS) VORTAC. The FAA proposes to remove the entire route.

V-463: V-463 currently extends from the intersection of the Harris, GA, (HRS) VORTAC 179° and Foothills, SC, (ODF) VOR/DME 222° radials, to the Harris VORTAC. The FAA proposes to remove the entire route.

Domestic VOR Federal airways are published in paragraph 6010(a) of FAA Order JO 7400.11F, dated August 10, 2021, and effective September 15, 2021, which is incorporated by reference in 14 CFR 71.1. The VOR Federal airways listed in this document would be subsequently published in FAA Order JO 7400.11.

FAA Order JO 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 6010(a) Domestic VOR Federal Airways.

* * * * *

V-18 [Amended]

From Belcher, LA; Monroe, LA; Magnolia, MS; Meridian, MS.

* * * * *

V-115 [Amended]

From Crestview, FL; INT Crestview 001° and Montgomery, AL, 204° radials; to Montgomery. From INT Hinch Mountain, TN, 160°(T)/162°(M) and Volunteer, TN, 228°(T)/231°(M) radials; Volunteer. From Charleston, WV; to Parkersburg, WV.

* * * * *

V-222 [Amended]

From El Paso, TX, via Salt Flat, TX; Fort Stockton, TX; 20 miles, 116 miles, 55 MSL, Junction, TX; Stonewall, TX; INT Stonewall 113° and Industry, TX, 267° radials; Industry; INT Industry 101° and Humble 259° radials; Humble; Beaumont, TX; Lake Charles, LA; McComb, MS; Eaton, MS; Monroeville, AL; to Montgomery, AL.

* * * * *

V-241 [Amended]

From Semmes, AL, via Crestview, FL; INT Crestview 076° and Wiregrass, AL, 232° radials; Wiregrass; to Eufaula, AL.

* * * * *

V-245 [Amended]

From Alexandria, LA, via Natchez, MS; Magnolia, MS; to Bigbee, MS.

* * * * *

V-311 [Removed]

* * * * *

V-321 [Amended]

From Gadsden, AL; INT Gadsden 333° and Rocket, AL, 149° radials; Rocket, Shelbyville, TN; Livingston, TN.

* * * * *

V-325 [Removed]

* * * * *

V-333 [Amended]

From INT Hinch Mountain, TN, 010°(T)/012°(M) and Livingston, KY, 123°(T)/125°(M) radials; to Lexington, KY.

* * * * *

V-415 [Removed]

* * * * *

V-417 [Removed]

* * * * *

V-463 [Removed]

* * * * *

Issued in Washington, DC, on December 7, 2021.
Margaret C. Flategraff,
Acting Manager, Rules and Regulations Group.

[FR Doc. 2021-26979 Filed 12-13-21; 8:45 am]

BILLING CODE 4910-13-P